DEPARTMENT OF THE INTERIOR

National Park Service

[NPS-WASO-VRP-WS-NPS0028013; PPWOVPADW0, PPMPRLE1Y.LB0000 (200); OMB Control Number 1024-0022]

Agency Information Collection Activities; Backcountry/Wilderness Use Permit

AGENCY: National Park Service, Interior.

ACTION: Notice of information collection; request for comment.

SUMMARY: In accordance with the Paperwork Reduction Act of 1995, we, the National Park Service (NPS) are proposing to renew an information collection.

DATES: Interested persons are invited to submit comments on or before May 18, 2020.

ADDRESSES: Send your comments on this information collection request (ICR) by mail to Phadrea Ponds, Acting Information Collection Clearance Officer, National Park Service, 1201 Oakridge Drive Fort Collins, CO 80525; or by email to phadrea_ponds@nps.gov. Please reference Office of Management and Budget (OMB) Control Number 1024-0022 in the subject line of your comments.

FOR FURTHER INFORMATION CONTACT: To request additional information about this ICR contact Roger Semler, Chief, Wilderness Stewardship Division, Visitor & Resource Protection Directorate by email at roger_semler@nps.gov, or by telephone at 202-513-7220.

SUPPLEMENTARY INFORMATION: In accordance with the PRA and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Backcountry/Wilderness Use Permit is an extension of the NPS statutory authority and responsibility to protect the park areas it administers and to manage the public use thereof (54 U.S.C. 100101, 100751, 3210102). NPS regulations codified in 36 CFR parts 1 through 7, 12 and 13 are designated to implement statutory mandates that provide for resource protection and pubic enjoyment. In 1976, the NPS initiated a backcountry registration system in accordance with the regulations codified in 36 CFR 1.5, 1.6 and 2.10. The objective of the registration system is to provide users access to backcountry and wilderness areas of national parks with continuing opportunities for solitude. These areas provide primitive and unconfined recreation, while enhancing protection of natural and cultural resources and providing a means of disseminating public safety and outdoor ethics messages regarding backcountry/wilderness travel and camping. The objectives of the permit system are to ensure:

(1) That backcountry user requests are evaluated by park managers in accordance with applicable statutes and NPS regulations;

(2) the consistent use of standards and permitting criteria throughout the agency; and

(3) to the extent possible, the use of a single and efficient permitting document.

By designating access, travel routes and camping locations NPS backcountry/wilderness program managers can redistribute backcountry/wilderness users in response to closures and as a means to manage adverse impacts to natural and cultural resources. The system also facilitates redistribution of backcountry/wilderness users due to public safety hazards related to high fire danger, flood, wind, snow or ice hazards, bear activity, or other situations that may temporarily close or restrict access to a portion of the backcountry/wilderness.

The NPS uses the registration system to:

• Ensure backcountry/wilderness users receive up-to-date information on outdoor ethics,

• serve as an information source for first responders or search and rescue personnel in the event of an emergency in backcountry/wilderness areas.

• monitor the spatial distribution and demographics associated with backcountry/wilderness visitor use.

• inform backcountry and wilderness management, stewardship planning, decision making, and operations.

NPS Forms 10-404, “Backcountry/Wilderness Use Permit Application” and 10-404A, “Backcountry/Wilderness Use Permit Hangtag” are used to provide access into NPS backcountry areas, including areas that require a reservation to enter in accordance with other NPS regulations.

Title of Collection: Backcountry/Wilderness Use Permit, 36 CFR 1.5, 1.6, and 2.10.

OMB Control Number: 1024-0022.

Form Number: NPS Forms 10-404, “Backcountry/Wilderness Use Permit” and 10-404A, “Backcountry/Wilderness Use Permit Hangtag.”

Type of Review: Extension of a currently approved collection.

Respondents/Affected Public: Anyone using backcountry and wilderness areas within units of the national park system.

Respondent's Obligation: Required to obtain or retain a benefit.

Frequency of Collection: On occasion.

Total Estimated Annual Nonhour Burden Cost: None.

| Annual number of respondents | Avg. time per response (minutes) | Total annual burden hours (rounded)
Form 10-404, Backcountry/Wilderness Use Application | 179,200 | 8 | 23,893
Form 10-404A, Backcountry/Wilderness Use Permit Hangtag | 140,000 | 5 | 11,666
Total | 319,200 |  | 35,559

An agency may not conduct or sponsor nor is a person required to respond to a collection of information unless it displays a currently valid OMB control number.

The authority for this action is the Paperwork Reduction Act of 1995 (44 U.S.C. 3501 et seq.).

Phadrea Ponds,
Acting Information Collection Clearance Officer, National Park Service.

[FR Doc. 2020-05527 Filed 3-17-20; 8:45 am]

BILLING CODE 4312-52-P